DEPARTMENT OF THE INTERIOR

Bureau of Ocean Energy Management

Environmental Documents Prepared for Proposed Oil, Gas, and Mineral Operations by the Gulf of Mexico Outer Continental Shelf (OCS) Region

AGENCY: Bureau of Ocean Energy Management, Interior.

ACTION: Notice of the availability of Environmental Documents Prepared for OCS Mineral Proposals by the Gulf of Mexico OCS Region.

SUMMARY: The Bureau of Ocean Energy Management (BOEM), in accordance with Federal Regulations that implement the National Environmental Policy Act (NEPA), announces the availability of NEPA-related Site-Specific Environmental Assessments (SEA) and Findings of No Significant Impact (FONSI), prepared by BOEM for the following oil-, gas-, and mineral-related activities proposed on the Gulf of Mexico.

FOR FURTHER INFORMATION CONTACT: Public Information Unit, Information Services Section at the number below. Bureau of Ocean Energy Management, Gulf of Mexico OCS Region, Attention: Public Information Office (MS 5034), 1201 Elmwood Park Boulevard, Room 250, New Orleans, Louisiana 70123-2394, or by calling 1-800-200-GULF.

SUPPLEMENTARY INFORMATION: The BOEM prepares SEAs and FONSIs for proposals that relate to exploration, development, production, and transport of oil, gas, and mineral resources on the Federal OCS. These SEAs examine the potential environmental effects of activities described in the proposals and present BOEM conclusions regarding the significance of those effects. Environmental Assessments are used as a basis for determining whether or not approval of the proposals constitutes a major Federal action that significantly affects the quality of the human environment in accordance with NEPA Section 102(2)(C). A FONSI is prepared in those instances where BOEM finds that approval will not result in significant effects on the quality of the human environment. The FONSI briefly presents the basis for that finding and includes a summary or copy of the SEA. This notice constitutes the public notice of availability of environmental documents required under the NEPA Regulations.

Activity/operator | Location | Date
Shell Offshore Inc., Exploration Plan, SEA R-5298 | Located in the Western Planning Area, south of Galveston, Texas | 10/4/2011.
Prime Offshore L.L.C., Structure Removal, SEA ES/SR 11-285 | South Padre Island, Block 1113, Lease OCS-G 24302, located 20 miles from the nearest Texas shoreline | 10/12/2011.
Apache Corporation, Structure Removal, SEA ES/SR 11-152 | South Timbalier, Block 291, Lease OCS-G 16455, located 90 miles from the nearest Louisiana shoreline | 10/12/2011.
BP Exploration & Production Inc., Exploration Plan, SEA S-7451 | Keathley Canyon, Block 292, located 192 miles from the nearest shoreline in Terrebonne Parish, Louisiana, southeast of Morgan City, Louisiana | 10/14/2011.
Prime Offshore L.L.C., Structure Removal, SEA ES/SR 11-280 & 11-281 | South Padre Island, Block 1073, Lease OCS-G 23102, located 23 miles from the nearest Texas shoreline | 10/14/2011.
Prime Offshore L.L.C., Structure Removal, SEA ES/SR 11-284 | South Padre Island, Block 1166, Lease OCS-G 24307, located 15 miles from the nearest Texas shoreline | 10/14/2011.
Prime Offshore L.L.C., Structure Removal, SEA ES/SR 11-282 & 11-283 | South Padre Island, Block 1133, Lease OCS-G 26431, located 13 miles from the nearest Texas shoreline | 10/17/2011.
McMoRan Oil & Gas LLC, Structure Removal, SEA ES/SR 06-105A | Main Pass, Block 138, Lease OCS-G 16500, located 15 miles from the nearest Louisiana shoreline | 10/18/2011.
Chevron U.S.A. Inc., Exploration Plan, SEA S-7478 | Walker Ridge, Block 29, located 145 miles from the nearest Louisiana shoreline, south of Port Fourchon, Louisiana | 10/18/2011.
W & T Offshore, Inc., Structure Removal, SEA ES/SR 11-242 & 11-243 | Eugene Island, Block 196, Lease OCS-G 13821, located 48 miles from the nearest Louisiana shoreline | 10/19/2011.
Woodside Energy (USA) Inc., Exploration Plan, SEA R-5105 | Green Canyon, Block 451, located east of Brownsville, Texas, 109 miles from the nearest Texas shoreline | 10/19/2011.
W & T Offshore, Inc., Structure Removal, SEA ES/SR 11-270 | Ship Shoal, Block 33, Lease OCS 00336, located 11 miles from the nearest Louisiana shoreline | 10/19/2011.
Noble Energy, Inc., Exploration Plan, SEA R-5348 | Green Canyon, Blocks 678, 679, 680, 722, 723, 724, 725, 766, 767 and 768, located greater than 125 miles from the Louisiana shoreline, south of Morgan City, Louisiana | 10/20/2011.
Century Exploration New Orleans, Inc., Structure Removal, SEA ES/SR 11-289 | Ship Shoal, Block 154, Lease OCS 00420 located 36 miles from the nearest Louisiana shoreline | 10/20/2011.
Prime Offshore L.L.C., Structure Removal, SEA ES/SR 11-279 | South Padre Island, Block 1059, Lease OCS-G 23100, located 32 miles from the nearest Texas shoreline | 10/20/2011.
Chevron U.S.A. Inc., Development Operations Coordination Document, SEA R-5101 | Located south of Port Fourchon, Louisiana. 118 miles from the nearest Louisiana shoreline | 10/24/2011.
Maritech Resources, Inc., Structure Removal, SEA ES/SR 11-053 & 11-054 | Eugene Island, Block 129, Lease RUE OCS-G 30029, located 38 miles from the nearest Louisiana shoreline | 10/26/2011.
Apache Corporation, Structure Removal, SEA ES/SR 08-011A | Eugene Island, Block 306, Lease OCS-G 02109, located 75 miles from the nearest Louisiana shoreline | 10/26/2011.
W & T Offshore, Inc., Structure Removal, SEA ES/SR 11-237 | Main Pass, Block 102, Lease OCS-G 03798, located 58 miles from the nearest Louisiana shoreline | 10/26/2011.
Dynamic Data Services Inc., Geological & Geophysical Survey, SEA L11-013 | Located in the Western, Central, and Eastern Gulf of Mexico Planning Areas | 10/27/2011.
LLOG Exploration Offshore, L.L.C., Exploration Plan, SEA N-9504 | Located south of Grand Isle, Lafourche Parish, Louisiana, 56 miles from the nearest Louisiana shoreline | 10/27/2011.
Stone Energy Corporation, Structure Removal, SEA ES/SR 11-286 & 11-291 | West Delta, Block 97, Lease OCS-G 08457, located 23 miles from the nearest Louisiana shoreline | 10/31/2011.
Stone Energy Corporation, Structure Removal, SEA ES/SR 11-287 | West Delta, Block 98, Lease OCS-G 21129, located 20 miles from the nearest Louisiana shoreline | 10/31/2011.
Noble Energy, Inc., Exploration Plan, SEA R-5205 | Mississippi Canyon, Block 699, south of Mobile, Alabama, located 82 miles from the nearest shoreline in Plaquemines Parish, Louisiana | 11/1/2011.
Shell Offshore Inc., Exploration Plan, SEA S-7498 | Garden Banks, Block 427, south of Terrebonne Parish, Louisiana, located 134 miles from the nearest Louisiana shoreline | 11/2/2011.
Apache Deepwater LLC, Exploration Plan, SEA N-9583 | Green Canyon, Blocks 823 and 867, south of Port Fourchon, Louisiana, located 130 miles from the nearest Louisiana shoreline | 11/3/2011.
Murphy Exploration & Production Company—USA, Exploration Plan, SEA S-7485 | Located south of Mobile, Alabama, 74 miles from the nearest Louisiana shoreline | 11/4/2011.
Anadarko Petroleum Corporation, Development Operations Coordination Document, SEA N-9482 | Located southeast of Plaquemines Parish, Louisiana, 130 miles from the nearest Louisiana shoreline | 11/4/2011.
Chevron U.S.A. Inc., Structure Removal, SEA ES/SR 08-028A | South Timbalier, Block 151, Lease OCS 00463, located 32 miles from the nearest Louisiana shoreline | 11/4/2011.
JX Nippon Oil Exploration (U.S.A.) Limited, Structure Removal, SEA ES/SR 11-227 | West Cameron, Block 533, Lease OCS-G 02225, located 95 miles from the nearest Louisiana shoreline | 11/7/2011.
Global Geophysical Services, Inc., Geological and Geophysical Survey, SEA L11-015 | Located in the Eugene Island Area, in the Central Planning Area, of the Gulf of Mexico, 30 miles from the nearest Louisiana shoreline | 11/8/2011.
TGS-NOPEC Geophysical Company, Geological & Geophysical Survey, SEA L11-007 | Located in the Central Planning Area of the Gulf of Mexico | 11/10/2011.
ATP Oil & Gas Corporation, Exploration Plan, SEA N-9577 | Mississippi Canyon, Block 710, Lease OCS-G 22896, located 48 miles from the nearest Louisiana shoreline | 11/10/2011.
BHP Billiton Petroleum (GOM) Inc., Development Operations Coordination Document, SEA S-7487 | Located south of Port Fourchon, Lafourche Parish, Louisiana, 117 miles from the nearest Louisiana shoreline | 11/15/2011.
Anadarko Petroleum Corporation, Exploration Plan, SEA N-9593 | Keathley Canyon, Block 875, located 214 miles from the nearest Louisiana shoreline, south of Intracoastal City, Vermillion Parish, Louisiana | 11/17/2011.
Newfield Exploration Company, Exploration Plan, SEA N-9586 | Located south of Mobile, Alabama, 62 miles from the nearest shoreline, south of Venice, Louisiana | 11/18/2011.
Shell Offshore Inc., Exploration Plan, SEA S-7499 | Mississippi Canyon, Block 807, located 53 miles from the nearest Louisiana shoreline, southeast of Port Fourchon, Louisiana | 11/18/2011.
Exxon Mobil Corporation, Exploration Plan, SEA R-5296 | Keathley Canyon, Block 919, Lease OCS-G 21447, located 236 miles from the nearest Louisiana shoreline, south-southwest of Port Fourchon, Louisiana | 11/21/2011.
Anadarko Petroleum Corporation, Exploration Plan, SEA N-9591 | East Breaks, Block 646, located 118 miles from the nearest Texas shoreline, south of Galveston, Texas | 11/23/2011.
Wild Well Control, Inc., Structure Removal, SEA ES/SR 11-223 | Grand Isle, Block 47, Lease OCS-00133, located 18 miles from the nearest Louisiana shoreline | 11/30/2011.
EOG Resources, Inc., Structure Removal, SEA ES/SR 11-278 | Mustang Island, Block 759, Lease OCS-G 14103, located 32 miles from the nearest Texas shoreline | 11/30/2011.
Eni US Operating Co. Inc., Structure Removal, SEA ES/SR 11-290 | West Cameron, Block 225, Lease OCS-G 00900, located 39 miles from the nearest Louisiana shoreline | 11/30/2011.
Fugro Multi Client Services, Inc., Geological & Geophysical Survey, SEA L11-018 | Located in the Central Planning Area of the Gulf of Mexico, south of Louisiana | 12/1/2011.
TDI-Brooks International, Inc., Geological & Geophysical Survey, SEA L11-019 | Located in the Central Gulf of Mexico | 12/2/2011.
Shell Offshore, Inc., Exploration Plan, SEA S-7514 | Walker Ridge, Block 508, located 178 miles from the nearest Louisiana shoreline, south of Terrebonne Parish, Louisiana | 12/13/2011.
Walter Oil & Gas Corporation, Exploration Plan, SEA R-5382 | Ewing Bank, Block 834, located 63 miles from the nearest Louisiana shoreline, south of Terrebonne Parish, Louisiana | 12/15/2011.
Transcontinental Gas Pipe Line Company, LLC, Structure Removal, SEA ES/SR 11-267 | Vermilion, Block 76, Right-Of-Way Lease No. 00647, located 18 miles from the nearest Louisiana shoreline | 12/19/2011.
Apache Corporation, Structure Removal, SEA ES/SR 11-154 | Eugene Island, Block 306, Lease OCS-G 02109, located 75 miles from the nearest Louisiana shoreline | 12/20/2011.
Walter Oil & Gas Corporation, Exploration Plan, SEA R-5404 | Eugene Island, Block 51, located 63 miles from the nearest Louisiana shoreline, south of Terrebonne Parish, Louisiana | 12/20/2011.
Maritech Resources, Inc., Structure Removal, SEA ES/SR 11-238 | High Island, Block 325A, Lease OCS-G 02416, located 120 miles from the nearest Texas shoreline | 12/20/2011.
Maritech Resources, Inc., Structure Removal, SEA ES/SR 11-288 | High Island, Block A 560, Lease OCS-G 14193, located 76 miles from the nearest Texas shoreline | 12/22/2011.
Apache Corporation, Structure Removal, SEA ES/SR 11-036A | Matagorda Island, Block 696, Lease OCS-G 04704, located 1 mile from the nearest Texas shoreline | 12/22/2011.
Anadarko Petroleum Corporation, Exploration Plan, SEA S-7509 | Green Canyon, Block 727, located 122 miles from the nearest Louisiana shoreline, in Terrebonne Parish, Louisiana, southwest of Grand Isle, Louisiana | 12/23/2011.
Anadarko Petroleum Corporation, Exploration Plan, SEA N-9610 | Located south of Iberia, Louisiana, 223 miles from the nearest Louisiana shoreline, in Terrebonne Parish, Louisiana | 12/27/2011.
Chevron U.S.A. Inc., Exploration Plan, SEA R-5299 | Keathley Canyon, Block 736, located 210 miles of the nearest Louisiana shoreline, southwest of Port Fourchon, Louisiana | 12/29/2011.
LLOG Exploration Offshore, L.L.C., Exploration Plan, SEA S-7526 | Located in the Central Planning Area of the Gulf of Mexico, southeast of New Orleans, Louisiana, 60 miles from the nearest Louisiana shoreline | 12/29/2011.
Apache Corporation, Structure Removal, SEA ES/SR 11-071 | North Padre Island, Block 892, Lease OCS-G 08958, located 31 miles from the nearest Texas shoreline | 12/29/2011.

Persons interested in reviewing environmental documents for the proposals listed above or obtaining information about SEAs and FONSIs prepared by the Gulf of Mexico OCS Region are encouraged to contact BOEM at the address or telephone listed in the FOR FURTHER INFORMATION CONTACT section.

Dated: February 3, 2012.
John Rodi,
Regional Director, Gulf of Mexico OCS Region.

[FR Doc. 2012-7364 Filed 3-26-12; 8:45 am]

BILLING CODE 4310-MR-P